DEPARTMENT OF AGRICULTURE

Food Safety and Inspection Service

[Docket No. FSIS-2007-0031]

Codex Alimentarius Commission: Meeting of the Codex Committee on Nutrition and Foods for Special Dietary Uses

AGENCY: Office of the Under Secretary for Food Safety, USDA.

ACTION: Notice of public meeting and request for comments.

SUMMARY: The Office of the Under Secretary for Food Safety, U.S. Department of Agriculture (USDA) and the Food and Drug Administration (FDA), U.S. Department of Health and Human Services (HHS) are sponsoring a public meeting on September 25, 2007. The objective of the public meeting is to provide information and receive public comments on agenda items and draft United States positions that will be discussed at the 29th Session of the Codex Committee on Nutrition and Foods for Special Dietary Uses (CCNFSDU) of the Codex Alimentarius Commission (Codex), which will be held in Bad Neuenahr-Ahrweiler, Germany on November 12-November 16, 2007. In addition, an Ad Hoc Working Group on the Revision of the Standard for Gluten-Free Foods will meet on November 10, 2007. The Under Secretary for Food Safety and FDA recognize the importance of providing interested parties the opportunity to obtain background information on the 29th Session of CCNFSDU and to address items on the agenda.

DATES: The public meeting is scheduled for Tuesday, September 25, 2007, from 1 p.m. to 4 p.m.

ADDRESSES: The public meeting will be held in the Auditorium (1A003), Food and Drug Administration, Harvey Wiley Federal Building, 5100 Paint Branch Parkway, College Park, MD. Parking is adjacent to this building and will be available at no charge to individuals who pre-register by the date below (See Pre-Registration). In addition, the College Park metro station is across the street. Codex documents related to the 29th Session of the CCNFSDU will be accessible via the World Wide Web at the following address: http://www.codexalimentarius.net/current.asp.

Pre-Registration: To gain admittance to this meeting, individuals must present a photo ID for identification and also are required to pre-register. In addition, no cameras or videotaping equipment will be permitted in the meeting room. To pre-register, please send the following information to this e-mail address (nancy.crane@fda.hhs.gov) by September 20, 2007:

:

—Your Name.

—Organization.

—Mailing Address.

—Phone number.

—E-mail address.

For Further Information About the 29th Session of the CCNFSDU Contact: Nancy Crane, Assistant to the U.S. Delegate to the CCNFSDU, Office of Nutritional Products, Labeling and Dietary Supplements, Center for Food Safety and Applied Nutrition, FDA, 5100 Paint Branch Parkway (HFS-800), College Park, MD 20740, Phone: (301) 436-1450, Fax: (301) 436-2636, E-mail: nancy.crane@fda.hhs.gov.

For Further Information About the Public Meeting Contact: Edith Kennard, Staff Officer, U.S. Codex Office, Food Safety and Inspection Service (FSIS), Room 4861, South Building, 1400 Independence Avenue SW., Washington, DC 20250, Phone: (202) 720-5261, Fax: (202) 720-3157, E-mail: edith.kennard@fsis.usda.gov.

SUPPLEMENTARY INFORMATION:

Background

The Codex Alimentarius (Codex) was established in 1963 by two United Nations organizations, the Food and Agriculture Organization and the World Health Organization. Through adoption of food standards, codes of practice, and other guidelines developed by its committees, and by promoting their adoption and implementation by governments, Codex seeks to protect the health of consumers and ensure that fair practices are used in trade.

The Codex Committee on Nutrition and Foods for Special Dietary Uses (CCNFSDU) was established to study specific nutritional problems assigned to it by the Commission and advise the Commission on general nutritional issues; to draft general provisions as appropriate, concerning the nutritional aspects of all foods; to develop standards, guidelines, or related texts for foods for special dietary uses, in cooperation with other committees when necessary; and to consider, amend if necessary, and endorse provisions on nutritional aspects proposed for inclusion in Codex standards, guidelines, and related texts. The Committee is hosted by the Federal Republic of Germany.

Issues to be Discussed at the Public Meeting

The following items on the Agenda for the 29th Session of the Committee will be discussed during the public meeting:

• Matters Referred to the Committee from Other Codex Bodies.

• Guidelines for Use of Nutrition Claims: Draft Table of Conditions for Nutrient Contents: (Part B, containing provisions on Dietary Fibre).

• Draft Revised Standard for Gluten-Free Foods.

• Proposed Draft Revision of the Advisory List of Nutrient Compounds for Use in Foods for Special Dietary Uses Intended for Use by Infants and Young Children.

• Proposed Draft Recommendations on the Scientific Basis of Health Claims.

• Application of Risk Analysis Principles by the Committee on Nutrition and Foods for Special Dietary Uses.

• Discussion Paper on the Proposals for Additional or Revised Nutrient Reference Values for Labelling Purposes.

• Discussion Paper on the Production and Processing Standards Regarding the Nutritional Quality and Safety of Foods.

• Discussion Paper on the Proposal for New Work to Amend the Codex General Principles for the Addition of Essential Nutrients.

Each issue listed will be fully described in documents distributed, or to be distributed, by the German Secretariat prior to the Meeting. Members of the public may access copies of these documents at http://www.codexalimentarius.net/current.asp.

Public Meeting

At the September 25, 2007, public meeting, draft U.S. positions on these agenda items will be described and discussed, and attendees will have the opportunity to pose questions and offer comments. Written comments may be offered at the meeting or sent to the U.S. Delegate for the 29th session of CCNFSDU, Dr. Barbara Schneeman, at CCNFSDU@fda.hhs.gov. Written comments should state that they relate to activities of the 29th Session of the CCNFSDU.

Additional Public Notification

Public awareness of all segments of rulemaking and policy development is important. Consequently, in an effort to ensure that minorities, women, and persons with disabilities are aware of this notice, FSIS will announce it online through the FSIS Web page located at http://www.fsis.usda.gov/regulations/2007_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves and have the option to password protect their account.

Done at Washington, DC on: September 18, 2007.
F. Edward Scarbrough,
U.S. Manager for Codex Alimentarius.

[FR Doc. E7-18718 Filed 9-20-07; 8:45 am]

BILLING CODE 3410-DM-P